DEPARTMENT OF TRANSPORTATION

Coast Guard

[USCG 2000-7379]

Collection of Information Under Review by Office of Management and Budget (OMB): OMB Control Number 2115-0644

AGENCY: Coast Guard, DOT.

ACTION: Request for comments.

SUMMARY: In compliance with the Paperwork Reduction Act of 1995, the Coast Guard intends to seek the approval of OMB for the renewal of one Information Collection Request (ICR). The ICR comprises Understanding how Mariners use Aids to Navigation—A Systems Analysis Report for the U.S. Coast Guard Research and Development Center. Before submitting the ICR to OMB, the Coast Guard is asking for comments on the collection described below.

DATES: Comments must reach the Coast Guard on or before July 24, 2000.

ADDRESSES: You may mail comments to the Docket Management System (DMS) [USCG 2000-7379], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICR is available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG 2000-7379], and give the reason for the comment. Please submit all comments and attachments in an unbound format no larger than 8\1/2\ by 11 inches, suitable for copying and electronic filing. Persons wanting acknowledgment of receipt of comments should enclose stamped, self-addressed postcards or envelopes.

Information Collection Request

1. Title: Understanding how Mariners use Aids to Navigation—A Systems Analysis Project for the U.S. Coast Guard Research and Development Center.

OMB Control Number: 2115-0644.

Summary: The goal of the National Aids to Navigation Survey is to understand how mariners use aids in order to navigate. Navigational methods and techniques vary with the type of vessel, conditions of the waterway, and the navigator's experience.

Need: The survey is being done under the mandates of the National Performance Review and Executive order 12802. It will enable program officers in aids to navigation (AtoN) to assess navigational risk, implement appropriate AtoN strategies, and measure the effectiveness of the program in reducing the number of vessel collisions, allisions, and groundings.

Respondents: Navigators of vessels.

Frequency: On occasion.

Burden: The estimated burden is 6,518 hours annually.

Dated: May 15, 2000.
Daniel F. Sheehan,
Director of Information and Technology.

[FR Doc. 00-12876 Filed 5-22-00; 8:45 am]

BILLING CODE 4910-15-U